DEPARTMENT OF HOMELAND SECURITY

United States Immigration and Customs Enforcement

Agency Information Collection Activities: New Information Collection; Comment Request

ACTION: 30-Day notice of information collection under review; Form 70-008, ICE Secure Communities Stakeholder ID Assessment Questionnaire, OMB No. 1653-NEW.

The Department of Homeland Security, U.S. Immigration and Customs Enforcement (USICE), has submitted the following information collection request for review and clearance in accordance with the Paperwork Reduction Act of 1995. The information collection was previously published in the Federal Register on April 14, 2009 Vol. 74 No. 70 17205, allowing for a 60 day public comment period with a follow up notification of corrections published on Tuesday, June 2, 2009 Vol. 74 No. 104 26416. No comments were received on this information collection.

The purpose of this notice is to allow an additional 30 days for public comments. Comments are encouraged and will be accepted for thirty days July 17, 2009. Written comments and suggestions from the public and affected agencies regarding items contained in this notice and especially with regard to the estimated public burden and associated response time should be directed to the Office of Information and Regulatory Affairs, Office of Management and Budget. Comments should be addressed to OMB Desk Officer, for United States Immigration and Customs Enforcement, Department of Homeland Security, and sent via electronic mail to oira_submission@omb.eop.gov or faxed to (202) 395-6974.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection:

(1) Type of Information Collection: New information collection.

(2) Title of the Form/Collection: ICE Secure Communities Stakeholder ID Assessment Questionnaire.

(3) Agency form number, if any, and the applicable component of the Department of Homeland Security sponsoring the collection: Form 70-008. U.S. Immigration and Customs Enforcement.

(4) Affected public who will be asked or required to respond, as well as a brief abstract: Primary: State and Local Correctional Facilities. The ICE Stakeholder Assessment's purpose is to understand the level of support and awareness of the Secure Communities program. This assessment will be a snapshot in time of a sample of state and local organizations that will be impacted in some way by the Secure Communities program to establish a baseline of attitudes prior to implementing the program in their state.

(5) An estimate of the total number of respondents and the amount of time estimated for an average respondent to respond: 1,000 responses at 10 minutes (0.1667 hours) per response.

(6) An estimate of the total public burden (in hours) associated with the collection: 166.7 annual burden hours.

Requests for a copy of the proposed information collection instrument, with instructions should be sent via e-mail to forms.ice@dhs.gov with “ICE Form 70-008” in the subject line; inquiries for additional information should be directed to: Joseph M. Gerhart, Chief, Records Management Branch; U.S. Immigration and Customs Enforcement, 500 12th Street, SW., Room 3138, Washington, DC 20536; (202) 732-6337.

Dated: June 11, 2009.
Joseph M. Gerhart, Chief,
Records Management Branch Chief, U.S. Immigration and Customs Enforcement, Department of Homeland Security.

[FR Doc. E9-14178 Filed 6-16-09; 8:45 am]

BILLING CODE 9111-28-P